DEPARTMENT OF THE TREASURY

Open Meeting of the President's Advisory Council on Financial Literacy

AGENCY: Office of Financial Education, Treasury.

ACTION: Notice of meeting.

SUMMARY: The President's Advisory Council on Financial Literacy will convene a meeting which will be open to the public. The purpose of this meeting is to discuss the Council's priorities and how it can best advise the President and the Secretary of the Treasury. Treasury would also provide an update about the status of the recommendations made by the Council in January 2008.

DATES: The meeting will be held on November 3, 2009 at 10 a.m. Eastern Time at the Department of the Treasury in Media Room 4121.

Submission of Written Comments: The public is invited to submit written statements to the President's Advisory Council on Financial Literacy by any one of the following methods:

Electronic Statements

E-mail FinancialLiteracyCouncil@do.treas.gov; or

Paper Statements

Send paper statements in triplicate to President's Advisory Council on Financial Literacy, Office of Financial Education, Room 1413, Department of the Treasury, 1500 Pennsylvania Avenue, NW., Washington, DC 20220.

In general, the Department will post all statements on its Web site (http://www.treasury.gov/offices/domestic-finance/financial-institution/fin-education/council/index.shtml) in their original format, including any business or personal information provided such as names, addresses, e-mail addresses, or telephone numbers. The Department will make such statements available for public inspection and photocopying in the Department's library, Room 1428, Main Department Building, 1500 Pennsylvania Avenue, NW., Washington, DC 20220, on official business days between the hours of 10 a.m. and 5 p.m. You can make an appointment to inspect statements by calling (202) 622-0990. All statements received, including attachments and other supporting materials, are part of the public record and subject to public disclosure. You should only submit information that you wish to make publicly available.

FOR FURTHER INFORMATION CONTACT: Dubis Correal, Office of Financial Education, Department of the Treasury, Main Department Building, 1500 Pennsylvania Avenue, NW., Washington, DC 20220, at (202) 622-5770 or dubis.correal@do.treas.gov.

SUPPLEMENTARY INFORMATION: In accordance with section 10(a) of the Federal Advisory Committee Act, 5 U.S.C. App. 2 and the regulations thereunder, Dubis Correal, Designated Federal Officer of the Advisory Council, has ordered publication of this notice that the President's Advisory Council on Financial Literacy will convene a meeting on November 3, 2009 in Media Room 4121 at the Main Department Building, 1500 Pennsylvania Avenue, NW., Washington, DC, beginning at 10 a.m. Eastern Time. The meeting will be open to the public. To be admitted into the Main Department Building, attendees must RSVP with their name as shown on a government-issued ID, organization represented (if any), phone number, date of birth, Social Security number and country of citizenship. To register, contact the Office of Financial Education at (202) 622-5770 or visit http://www.treasury.gov/ofe, click on the “President's Advisory Council on Financial Literacy” and then click on “Event Summary and Registration.” Because the meeting will be held in a secured facility, members of the public who plan to attend the meeting must register by 5 p.m. Eastern Time on October 27, 2009. For admittance to the Treasury building on the day of the meeting, attendees must present a government-issued ID, such as a driver's license or passport, which includes a photo and date of birth. The primary purpose of this meeting is for the President's Advisory Council on Financial Literacy to discuss its priorities and how it can best advise the President and the Secretary of the Treasury. Treasury would also provide an update about the status of the recommendations made by the President's Advisory Council on Financial Literacy in January 2008.

Dated: September 29, 2009.
Andrew Mayock,
Executive Secretary, U.S. Department of the Treasury.

[FR Doc. E9-24134 Filed 10-6-09; 8:45 am]

BILLING CODE 4810-25-P